DEPARTMENT OF ENERGY

Federal Energy Regulatory Commission

[PH06-1-000; PH06-2-000; PH06-3-000; PH06-5-000; PH06-6-000; PH06-7-000; PH06-8-000; PH06-9-000; PH06-10-000]

Berrick Gold Corporation; DPL Inc.; AGL Resources Inc.; Hawaiian Electronic Industries; TransCanada Corporation; Broad Street Contract Services, Inc.; DTE Energy Company; Mitsubishi Corporation, et al.; Kandiyohi Power Cooperative; Notice of Effectiveness of Exemptions and Waivers

May 26, 2006.

Take notice that in March and April 2006 the exemptions and waivers requested in the above-captioned proceedings are deemed to have been granted by operation of law pursuant to 18 CFR 366.4.

Magalie R. Salas,
Secretary.

[FR Doc. E6-8601 Filed 6-1-06; 8:45 am]

BILLING CODE 6717-01-P